DEPARTMENT OF VETERANS AFFAIRS

Advisory Committee Charter Renewals

AGENCY: Department of Veterans Affairs.

ACTION: Notice of advisory committee charter renewals.

SUMMARY: In accordance with the provisions of the Federal Advisory Committee Act (FACA) and after consultation with the General Services Administration, the Secretary of Veterans Affairs has renewed the charter for the following statutorily authorized Federal advisory committee for a two-year period, beginning on the date listed below:

Committee name | Committee description | Charter renewed on
Advisory Committee on Cemeteries and Memorials | Provides advice to the Secretary on the administration of national cemeteries, Soldiers' lots and plots, the selection of cemetery sites, the erection of appropriate memorials, and the adequacy of Federal burial benefits | August 16, 2017.
Veterans' Advisory Committee on Rehabilitation | Provides advice to the Secretary on the rehabilitation needs of disabled Veterans and the administration of VA's rehabilitation programs | September 25, 2017.
Advisory Committee on Women Veterans | Provides advice to the Secretary on the needs of women Veterans regarding health care, rehabilitation benefits, compensation, outreach, and other programs administered by VA | September 29, 2017.

FOR FURTHER INFORMATION CONTACT: Jeffrey Moragne, Committee Management Office, Department of Veterans Affairs, Advisory Committee Management Office (00AC), 810 Vermont Avenue NW., Washington, DC 20420; telephone (202) 266-4660; or email at Jeffrey.Moragne@va.gov. To view a copy of a VA Federal advisory committee charter, visit http://www.va.gov/advisory.

Dated: November 22, 2017.
Jelessa M. Burney,
Federal Advisory Committee Management Officer.

[FR Doc. 2017-25630 Filed 11-27-17; 8:45 am]

BILLING CODE 8320-01-P